DEPARTMENT OF THE INTERIOR

National Park Service

Notice of Boundary Revision, Mount Rainier National Park

AGENCY: National Park Service, DOI.

SUMMARY: This notice announces the revision of the boundary of Mount Rainier National Park to include one additional tract of land, effective upon this publication.

FOR FURTHER INFORMATION CONTACT: National Park Service, Chief, Land Resources Program Center, Columbia Cascades Support Office, 909 First Avenue, Seattle, WA 98104-1060, (206) 220-4065.

SUPPLEMENTARY INFORMATION: Public Law 104-333, authorizes minor boundary revisions of areas within the National Park System. Such boundary revisions may be made after advising the appropriate congressional committees and upon publication in the Federal Register.

Approximately 12.5 acres of unimproved land and underlying separate mineral interests in Pierce County, Washington are being acquired by donation.

This boundary revision accommodates and includes the property donations, which are now a part of Mount Rainer National Park, identified as Tract 01-108.

The official map depicting the boundary adjustment and the property donation(s) is “Mount Rainier National Park, Drawing No. 105-92,002, Segment 01, dated March 1990”. The map is available for inspection at the aforementioned Land Resources Program Center—Columbia Cascades Support Office.

Dated: December 21, 1999.
William C. Walters,
Deputy Regional Director, Pacific West Region.

[FR Doc. 00-2025 Filed 1-28-00; 8:45 am]

BILLING CODE 4310-70-P